ENVIRONMENTAL PROTECTION AGENCY

[FRL-6905-7]

Proposed Settlement Agreement, Clean Air Act

AGENCY: Environmental Protection Agency (EPA).

ACTION: Notice of proposed settlement agreement; request for public comment.

SUMMARY: In accordance with section 113(g) of the Clean Air Act, as amended (“Act”), 42 U.S.C. 7413(g), notice is hereby given of a proposed settlement agreement in the following case: Earth Island Institute v. U.S. Environmental Protection Agency, Civ. No. 00-1065 (D.C. Cir.). This action was filed pursuant to section 307(b) of the Act, 42 U.S.C. 7607(b), contesting EPA's final regulations for New Marine Compression-Ignition Engines at or Above 37kW. The final rules were issued under section 213(a)(3) of the Act and published at 64 FR 73300 (December 29, 1999).

DATES: Written comments on the proposed settlement agreement must be received by December 22, 2000.

ADDRESSES: Written comments should be sent to Mark M. Kataoka, Air and Radiation Law Office (2344A), Office of General Counsel, U.S. Environmental Protection Agency, 1200 Pennsylvania Ave., NW., Washington, DC 20460. Copies of the proposed settlement agreement are available from Phyllis J. Cochran, (202) 564-5566.

SUPPLEMENTARY INFORMATION: Earth Island Institute alleges in their lawsuit that EPA's final rule failed to establish emission standards for certain marine compression-ignition engines and thereby violated the Act. The proposed settlement agreement provides, in part, a schedule by which EPA will propose and take final action on a NOX emission standard for certain new marine compression-ignition engines. The proposed settlement agreement also provides that if EPA accomplishes certain actions including the rulemaking described above, Earth Island Institute will agree to dismissal with prejudice of its petition for review.

For a period of thirty (30) days following the date of publication of this notice, the Agency will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, following the comment period, that consent is inappropriate, the settlement agreement will then be executed by the parties.

Dated: November 14, 2000.
Gary S. Guzy,
General Counsel.

[FR Doc. 00-29874 Filed 11-21-00; 8:45 am]

BILLING CODE 6560-50-M